DEPARTMENT OF LABOR

Employment and Training Administration

Native American Employment and Training Council (Council) Charter; Notice of Intent To Renew

AGENCY: Employment and Training Administration, Labor.

ACTION: Notice of Intent to Renew the Native American Employment and Training Council (Council) Charter.

SUMMARY: Notice is hereby given regarding the renewal of the Workforce Investment Act (WIA), Section 166 Indian and Native American program Charter that is necessary and in the public interest. Accordingly, the U.S. Department of Labor (the Department), Employment and Training Administration (ETA) intends to renew the Council Charter with revisions. The revisions are not intended to change the purpose or the Council's original intent. The revisions includes language regarding membership diversity and changes to the terms of members. The charter for the Council will expire on August 31, 2013.

SUPPLEMENTARY INFORMATION: Background: Pursuant to WIA Section 166(h)(4)(C), the Council advises the Secretary on all aspects of the operation and administration of the Native American programs authorized under the Workforce Investment Act (WIA) Section 166. In addition, the Council advises the Secretary on matters that promote the employment and training needs of American Indians and Native Americans, as well as enhance the quality of life in accordance with the Indian Self-Determination Act and Education Assistance Act. The Council shall also provide guidance to the Secretary on ways for Indians, Alaska Natives, and Native Hawaiians to successfully access and obtain Department discretionary funding and participate in special initiatives.

The charter is required to be renewed every two years; the previous charter expired on August 31, 2013. The Council continues to assist ETA and the Secretary to administer WIA Section 166 program policy.

Summary of Revisions: Due to Federal Advisory Committee Act (FACA) requirements and budgetary constraints, there are two changes that have been made to the charter: First, due to reduced funding under sequestration, the estimated annual operating cost of $110,000 is reduced to $100,000. Utilizing new and improved technologies, (teleconferences and virtual meetings) will allow the Department of Labor (DOL) to conduct conferences and meetings from a distance and reduce overall travel cost. Second, the membership section was modified to enact term limits for the chairperson and vice chairperson. Adding a limitation on terms allows: (1) The Council to create a rolling influx of new ideas and perspectives; (2) for an equitable distribution of influence with the Council leadership; (3) opportunity for current members to take on more of a leadership role; (4) flexibility to maintain a healthy Council balance of experience and fresh ideas, and further accommodates changes in membership due to retirements, member withdrawals, or resignations; and, (5) the prevention of too many individuals representing one interest. The reduction in funding and term limits will have no impact on the Council's role. All council members shall serve at the pleasure of the Secretary and members may be appointed, reappointed, and/or replaced, and their terms may be extended, changed, or terminated at the Secretary's discretion.

FOR FURTHER INFORMATION CONTACT: Mrs. Evangeline M. Campbell, Designated Federal Officer, Division of Indian and Native American Program, Office of Workforce Investment, Employment and Training Administration, U.S. Department of Labor, Room S-4209, 200 Constitution Avenue NW., Washington, DC 20210. Telephone: (202) 693-3737, (this is not a toll-free number).

Signed at Washington, DC, this 29th day of August 2013.
Eric M. Seleznow,
Acting Assistant Secretary, Employment and Training Administration.

[FR Doc. 2013-21852 Filed 9-6-13; 8:45 am]

BILLING CODE 4510-FR-P